INTERNATIONAL TRADE COMMISSION

[Investigation Nos. 701-TA-757 and 731-TA-1737-1738 (Final)]

Polypropylene Corrugated Boxes From China and Vietnam; Cancellation of Hearing for Antidumping and Countervailing Duty Investigations

AGENCY: United States International Trade Commission.

ACTION: Notice.

DATES: January 16, 2026.

FOR FURTHER INFORMATION CONTACT: Camille Bryan ((202) 205-2811), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective August 20, 2025, the Commission established a schedule for the conduct of the subject proceeding (90 FR 41595, August 26, 2025). Due to the lapse in appropriations and ensuing cessation of Commission operations, the Commission issued a revised schedule (90 FR 54369, November 26, 2025). Due to the Department of Commerce's tolling of case deadline by an additional 21 calendar days, the Commission issued a second revised schedule (90 FR 59202, December 18, 2025). On January 14, 2026, counsel for CoolSeal USA Inc.; Inteplast Group Corporation; SeaCa Plastic Packaging; and Technology Container Corp. (collectively, “petitioners”), filed a request to appear at the hearing. No other parties submitted a request to appear at the hearing. On January 15, 2026, counsel for the petitioners withdrew its request to appear at the hearing, filed a request that the Commission cancel the scheduled hearing for this proceeding and indicated a willingness to respond to any Commission questions in lieu of an actual hearing. Consequently, the public hearing in connection with this proceeding, scheduled to begin at 9:30 a.m. on January 21, 2026, is cancelled. Parties to this proceeding should respond to any written questions posed by the Commission in their posthearing briefs, which are due to be filed on January 28, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to § 207.21 of the Commission's rules.

By order of the Commission.
Issued: January 16, 2025.
Lisa Barton,
Secretary to the Commission.

[FR Doc. 2026-01116 Filed 1-21-26; 8:45 am]

BILLING CODE 7020-02-P